FEDERAL RESERVE SYSTEM

Formations of, Acquisitions by, and Mergers of Bank Holding Companies; Correction

This notice corrects a notice (FR Doc. 4-4325) published on pages 13037 and 13038 of the issue for March 19, 2004.

Under the Federal Reserve Bank of Boston heading, the entry for Salisbury Bancorp, Inc., Lakeville, Connecticut, is revised to read as follows:

A. Federal Reserve Bank of Boston (Richard Walker, Community Affairs Officer) 600 Atlantic Avenue, Boston, Massachusetts 02106-2204:

1. Salisbury Bancorp, Inc., Lakeville, Connecticut; to merge with Canaan National Bancorp, Inc., Canaan, Connecticut, and thereby indirectly acquire the Canaan National Bank, Canaan, Connecticut.

Comments on this application must be received by April 5, 2004.

Board of Governors of the Federal Reserve System, March 22, 2004.
Robert deV. Frierson,
Deputy Secretary of the Board.

[FR Doc. E4-690 Filed 3-25-04; 8:45 am]

BILLING CODE 6210-01-S